ENVIRONMENTAL PROTECTION AGENCY

[FRL-7270-8]

Commonwealth of Pennsylvania's Submission of a Substantial Program Revision to Its Authorized National Pollutant Discharge Elimination System (NPDES) Program

AGENCY: Environmental Protection Agency (EPA).

ACTION: Notice of revision, public comment period, and opportunity to request a public hearing.

SUMMARY: The Commonwealth of Pennsylvania has submitted amendments to its Water Quality Regulations (adopted by the Environmental Quality Board on June 20, 2000) (hereinafter the Pennsylvania Regulation Revisions) to EPA for review as a revision to the Commonwealth's authorized National Pollutant Discharge Elimination System (NPDES) program pursuant to section 402 of the Clean Water Act (CWA). The Commonwealth has made significant revisions to 25 PA Code Chapters 92 and 97 of the Water Quality Regulations and EPA has determined that the Pennsylvania Regulation Revision constitutes a substantial revision to Pennsylvania's authorized NPDES program. Accordingly, EPA requests public comment and is providing notice of an opportunity to request a public hearing on the submitted regulation. EPA seeks public comments on whether to approve or disapprove the revisions to Pennsylvania's authorized NPDES program, and a public hearing will be held if there is significant public interest based on the requests received. Copies of the Pennsylvania Regulation Revisions are available for public inspection as indicated in the ADDRESSES section.

DATES: Comments and/or requests for public hearing must be received before October 15, 2002.

ADDRESSES: Comments should be addressed to Evelyn MacKnight, U.S. EPA, Region III, 3WP11, 1650 Arch Street, Philadelphia, Pennsylvania, 19103.

FOR FURTHER INFORMATION CONTACT: Evelyn MacKnight, (215) 814-5717, at the above address. Those who are deaf or hearing-impaired may use the Relay Service at 1-800-654-5984 and request that the call be relayed.

SUPPLEMENTARY INFORMATION: Section 402 or the Federal Clean Water Act (CWA) created the NPDES program under which the Administrator of EPA may issue permits for the discharge of pollutants into the water of the United States under conditions required by the CWA. Section 402(b) allows States to assume NPDES program responsibilities upon approval by EPA. On June 30, 1978, Pennsylvania received approval from EPA to assume the NPDES program; the Commonwealth then received the authority to administer the following NPDES programs on the dates indicated: the Federal Facilities Program on June 30, 1978; and the General Permits program on August 2, 1991.

EPA has issued a regulation in 40 CFR part 123 that establishes the requirements for NPDES State Programs. Section 123.62 establishes procedures for revision of authorized NPDES State Programs. Under § 123.62(a), a State may initiate a program revision and must keep EPA informed of proposed modifications to its regulatory authority. On 12/20/2000, the Commonwealth of Pennsylvania submitted its regulation revisions for formal review by EPA. Under § 123.62(b)(1), a State program submittal is complete whenever the State submits such documents as EPA determines are necessary under the circumstances. In this instance, EPA has determined that the State submission is complete. Section 123.62(b)(2) requires EPA to issue public notice by publication in the Federal Register and in newspapers having Statewide coverage, and to provide a period of public comment of at least 30 days whenever the Agency determines that a program revision is substantial. EPA has determined that the Pennsylvania Regulation Revision, which is described below, constitutes a substantial revision to Pennsylvania's NPDES program. Section 123.62(b)(2) also requires EPA to hold a public hearing regarding the proposed revision “if there is significant public interest based on requests received.”

The Pennsylvania Regulation Revision includes amendments to 25 PA Code Chapters 92 and 97 of the Water Quality Regulations. These revisions were part of the Commonwealth's Regulatory Basics Initiative (RBI), which was a process to evaluate regulations considering several factors including whether requirements are more stringent than Federal regulations without good reason; impose economic costs disproportionate to the environmental benefit; are prescriptive rather than performance-based; inhibit green technology and pollution prevention strategies; are obsolete or redundant; lack clarity; or are written in a way that causes significant noncompliance.

The revision incorporates by reference portions of Federal regulations found at 40 CFR parts 122, 124 and 125 (relating to EPA administered permit programs; the National Pollutant Discharge Elimination System; procedures for decision making; and criteria and standards for the National Pollutant Discharge Elimination System), so that it is now necessary for permittees and others to refer to Chapter 92 and the Federal regulations. Other significant revisions include the addition of regulations addressing Concentrated Animal Feeding Operations (CAFOs), which are significant contributors to water quality impairments due to nutrients and excessive erosion and sediment. The Commonwealth also significantly revised applicable regulations regarding Sanitary Sewer Overflows (SSOs) and Combined Sewer Overflows (CSOs). Pennsylvania also incorporates requirements of erosion and sediment control for stormwater and construction activities into NPDES permits.

At the close of the public comment period (including, if necessary, the public hearing), the EPA Regional Administrator, with the concurrence of the Associate General Counsel for Water and the Director of the Office of Compliance and Enforcement, will decide whether to approve or disapprove the Pennsylvania Regulation Revision as a revision to the Pennsylvania NPDES program. The decision to approve or disapprove will be based upon satisfying or meeting the requirements of the CWA and 40 CFR part 123. The Pennsylvania Regulation Revision may be reviewed by the public from 8 a.m. to 4 p.m. at the EPA office in Philadelphia, Monday to Friday (excluding holidays), at the address appearing earlier in this notice. Copies of the submittal may be obtained for a fee by contacting Evelyn MacKnight as indicated in the ADDRESSES section.

All comments or objections received by October 15, 2002, as discussed will be considered by EPA before taking final action on the program revision.

Please bring the foregoing to the attention of persons whom you know are interested in this matter. All written comments and question on this matter should be addressed to Evelyn MacKnight at the above address or telephone number.

Dated: August 22, 2002.
Donald S. Welsh,
Regional Administrator, Environmental Protection Agency, Region III.

[FR Doc. 02-22230 Filed 8-29-02; 8:45 am]

BILLING CODE 6560-50-P